Title 3—

The President

Proclamation 9629 of July 26, 2017

National Korean War Veterans Armistice Day, 2017

By the President of the United States of America

A Proclamation

On National Korean War Veterans Armistice Day, we honor the patriots who defended the Korean Peninsula against the spread of Communism in what became the first major conflict of the Cold War. We remember those who laid down their lives in defense of liberty, in a land far from home, and we vow to preserve their legacy.

Situated between World War II and the Vietnam War, the Korean War has often been labeled as the “Forgotten War,” despite its having claimed the lives of more than 36,000 Americans. The Korean War began on June 25, 1950, when North Korean forces, backed by the Soviet Union, invaded South Korea. Shortly thereafter, American troops arrived and pushed back the North Koreans. For 3 years, alongside fifteen allies and partners, we fought an unrelenting war of attrition. Through diplomatic engagements led by President Eisenhower, Americans secured peace on the Korean Peninsula. On July 27, 1953, North Korea, China, and the United Nations signed an armistice suspending all hostilities.

While the armistice stopped the active fighting in the region, North Korea's ballistic and nuclear weapons programs continue to pose grave threats to the United States and our allies and partners. At this moment, more than 28,000 American troops maintain a strong allied presence along the 38th parallel, which separates North and South Korea. These troops, and the rest of our Armed Forces, help me fulfill my unwavering commitment as President to protecting Americans at home and to steadfastly defending our allies abroad.

As we reflect upon our values and pause to remember all those who fight and sacrifice to uphold them, we will never forget our Korean War veterans whose valiant efforts halted the spread of Communism and advanced the cause of freedom.

NOW, THEREFORE, I, DONALD J. TRUMP, President of the United States of America, by virtue of the authority vested in me by the Constitution and the laws of the United States, do hereby proclaim July 27, 2017, as National Korean War Veterans Armistice Day. I call upon all Americans to observe this day with appropriate ceremonies and activities that honor and give thanks to our distinguished Korean War veterans.

IN WITNESS WHEREOF, I have hereunto set my hand this twenty-sixth day of July, in the year of our Lord two thousand seventeen, and of the Independence of the United States of America the two hundred and forty-second.

[FR Doc. 2017-16327

Filed 7-31-17; 11:15 am]

Billing code 3295-F7-P